DEPARTMENT OF HEALTH AND HUMAN SERVICES

Health Resources and Services Administration

Statement of Organization, Functions, and Delegations of Authority

This notice amends Part R of the Statement of Organization, Functions and Delegations of Authority of the Department of Health and Human Services (HHS), Health Recourses and Services Administration (HRSA) (60 FR 56605, as amended November 6, 1995; as last amended at 86 FR 48737-48743 dated August 31, 2021).

This reorganization updates the functions of the HIV/AIDS Bureau's Division Policy and Data (RVA).

Chapter RVA—Division of Policy and Data

Section RVA.20 Function

Delete the functional statement for the Division of Policy and Data (RVA) in its entirety and replace with the following:

Division of Policy and Data (RVA)

The Division of Policy and Data serves as the Bureau's focal point for program data collection and analysis, development of policy guidance, advancement of implementation science, and analyses of data for reports for dissemination, coordination of program and clinical performance activities, and technical assistance and training internally and externally. The division directs and manages the portfolio of recipients and programs funded under Special Projects of National Significance of title XXVI of the Public Health Service Act as amended by the Ryan White HIV/AIDS Treatment Extension Act of 2009, Public Law 111-87 (the Ryan White HIV/AIDS Program), 42 U.S.C. 300ff-101 (§ 2691 of the Public Health Service Act). The Division advises the Bureau's associate administrator and collaborates with division directors to develop policy, evaluation, data, and clinical proposals to support the Bureau's mission. The Division also coordinates and develops efforts with other HHS components and all HRSA Bureaus and Offices, including HRSA's Office of Planning, Analysis and Evaluation and Office of Legislation, in the preparation of HIV-related program policies.

Section RVA.30 Delegation of Authority

All delegations of authority and re-delegations of authority made to officials and employees of affected organizational components will continue in them or their successors pending further redelegation, if allowed, provided they are consistent with this reorganization.

This reorganization is effective upon date of signature.

(Authority: 44 U.S.C. 3101)

Diana Espinosa,
Acting Administrator.

[FR Doc. 2021-28463 Filed 1-3-22; 8:45 am]

BILLING CODE 4165-15-P